DEPARTMENT OF COMMERCE

International Trade Administration

A-570-904

Certain Activated Carbon from the People's Republic of China: Notice of Rescission of Changed Circumstances Review

AGENCY: Import Administration, International Trade Administration, Department of Commerce

EFFECTIVE DATE: September 24, 2009.

SUMMARY: On April 30, 2009, the Department of Commerce (“Department”) published a notice of initiation of changed circumstance review (“CCR”) of the antidumping duty order on certain activated carbon from the People's Republic of China (“PRC”). See Certain Activated Carbon From the People's Republic of China: Notice of Initiation of Changed Circumstances Review, 74 FR 19934 (April 30, 2009) (“Initiation”). The Department is now rescinding this CCR because Hebei Foreign Trade and Advertising Corporation (“Hebei Foreign”) because the factual information upon which the Department relied in the initiation of this change circumstances review was later found to be false, and we find there was not a change in circumstances to warrant this review.

FOR FURTHER INFORMATION CONTACT: Katie Marksberry, AD/CVD Operations, Office 9, Import Administration, International Trade Administration, U.S. Department of Commerce, 1401 Constitution Avenue, NW, Washington, DC 20230; telephone: 202-482-7906.

SUPPLEMENTARY INFORMATION:

Background

On February 24, 2009, the Department received a request from Hebei Foreign¹ for an expedited CCR to find that Hebei Foreign has been succeeded by Hebei Shenglun, and therefore Hebei Shenglun should receive the separate rate assigned to Hebei Foreign in the case of certain activated carbon from the PRC.² On March 4, 2009, the Department received comments from Petitioners in opposition to the CCR, stating that Hebei Foreign's February 24, 2009, request for a CCR is nearly identical to the November 7, 2008, request, which the Department denied.³

¹ The Department received a similar CCR request from Hebei Foreign on November 7, 2008, and denied the request because the Department found that changed circumstances sufficient to warrant a review did not exist. See Letter from Hebei Foreign, to the Department, regarding Certain Activated Carbon from the People's Republic of China; Request for Changed Circumstances Review (November 7, 2008); see also Letter from the Department to Hebei Foreign, regarding Changed Circumstance Review: Certain Activated Carbon from the People's Republic of China (“PRC”) (December 8, 2008).

² See Letter from Hebei Foreign, to the Department, regarding Certain Activated Carbon from the People's Republic of China; Request for Changed Circumstances Review (February 24, 2009) (“Hebei Foreign's CCR Request”).

³ See Letter from Petitioners to the Department, regarding Certain Activated Carbon from the People's Republic of China (March 4, 2009).

On April 30, 2009, the Department published a notice of initiation of CCR of the antidumping duty order on certain activated carbon from the People's Republic of China. See Initiation. However, the Department found that Hebei Foreign did not provide complete supporting documentation or conclusive evidence that would allow the Department to expedite the CCR by combining the preliminary results of review with the notice of initiation as provided for in 19 CFR 351.221(c)(3)(ii). See Initiation.

On June 12, 2009, the Department issued a supplemental questionnaire to Hebei Foreign, and on July 6, 2009, Hebei Foreign submitted its response.⁴ On July 9, 2009, the Department received comments from Petitioner⁵ concerning Hebei Foreign's supplemental questionnaire response. Petitioners argue that Hebei Foreign's supplemental response demonstrates that there is no basis for continuing with a changed circumstances proceeding, and additionally that the Department should revoke Hebei Foreign's separate rate based on Hebei Foreign's alleged intentional misrepresentation of its operations and management.⁶ Petitioners specifically reference statements submitted by Hebei Foreign that reveal that the managers listed in Hebei Foreign's response are not employees of Hebei Foreign, and that Wang Kezheng, who certified the responses, is not employed by Hebei Foreign. Additionally, Petitioners express concerns that Hebei Foreign is being used by Weng Kezheng and his business partner, Jiang Hua, as a “front company” to export subject merchandise to the United States under Hebei Foreign's separate rate.⁷

⁴ See Letter from the Department to Hebei Foreign, regarding Changed Circumstance Review: Certain Activated Carbon from the People's Republic of China (“PRC”) (June 12, 2009); also see Letter from Hebei Foreign to the Department, regarding Certain Activated Carbon from the People's Republic of China; Supplemental Response of Hebei Foreign Trade and Advertising Corp. (July 6, 2009) (“Hebei Foreign's Supplemental Questionnaire Response”).

⁵ Petitioners in this case are Calgon Carbon Corporation and Norit Americas Inc. (collectively, “Petitioners”).

⁶ See Letter from Petitioners to the Department, regarding Certain Activated Carbon from the People's Republic of China (July 9, 2009).

⁷ See id.

Scope of Changed Circumstances Review

The merchandise subject to this order is certain activated carbon. Certain activated carbon is a powdered, granular, or pelletized carbon product obtained by “activating” with heat and steam various materials containing carbon, including but not limited to coal (including bituminous, lignite, and anthracite), wood, coconut shells, olive stones, and peat. The thermal and steam treatments remove organic materials and create an internal pore structure in the carbon material. The producer can also use carbon dioxide gas (CO2) in place of steam in this process. The vast majority of the internal porosity developed during the high temperature steam (or CO2 gas) activated process is a direct result of oxidation of a portion of the solid carbon atoms in the raw material, converting them into a gaseous form of carbon.

The scope of this order covers all forms of activated carbon that are activated by steam or CO2, regardless of the raw material, grade, mixture, additives, further washing or post-activation chemical treatment (chemical or water washing, chemical impregnation or other treatment), or product form. Unless specifically excluded, the scope of this order covers all physical forms of certain activated carbon, including powdered activated carbon (“PAC”), granular activated carbon (“GAC”), and pelletized activated carbon.

Excluded from the scope of the order are chemically activated carbons. The carbon-based raw material used in the chemical activation process is treated with a strong chemical agent, including but not limited to phosphoric acid, zinc chloride sulfuric acid or potassium hydroxide, that dehydrates molecules in the raw material, and results in the formation of water that is removed from the raw material by moderate heat treatment. The activated carbon created by chemical activation has internal porosity developed primarily due to the action of the chemical dehydration agent. Chemically activated carbons are typically used to activate raw materials with a lignocellulosic component such as cellulose, including wood, sawdust, paper mill waste and peat.

To the extent that an imported activated carbon product is a blend of steam and chemically activated carbons, products containing 50 percent or more steam (or CO2 gas) activated carbons are within this scope, and those containing more than 50 percent chemically activated carbons are outside this scope. This exclusion language regarding blended material applies only to mixtures of steam and chemically activated carbons.

Also excluded from the scope are reactivated carbons. Reactivated carbons are previously used activated carbons that have had adsorbed materials removed from their pore structure after use through the application of heat, steam and/or chemicals.

Also excluded from the scope is activated carbon cloth. Activated carbon cloth is a woven textile fabric made of or containing activated carbon fibers. It is used in masks and filters and clothing of various types where a woven format is required.

Any activated carbon meeting the physical description of subject merchandise provided above that is not expressly excluded from the scope is included within this scope. The products subject to the order are currently classifiable under the Harmonized Tariff Schedule of the United States (“HTSUS”) subheading 3802.10.00. Although the HTSUS subheading is provided for convenience and customs purposes, the written description of the scope of this order is dispositive.

Rescission of Changed Circumstances Review

Based on information provided by Hebei Foreign in its original submission, the Department initiated a changed circumstance review. In its CCR request, Hebei Foreign stated that the complete transfer from Hebei Foreign to Hebei Shenglun was accomplished in November 2008. The Department determined that this constituted sufficient evidence to initiate this CCR to determine whether Hebei Shenglun is Hebei Foreign's successor-in-interest.⁸ However, in its supplemental questionnaire response, Hebei Foreign clearly stated that it is still in operation, had recently shipped subject merchandise to the United States, and would continue to do so as Hebei Foreign.⁹ Additionally, the Department notes that that Hebei Foreign's submissions and questionnaire response were certified by Wang Kezheng as the manager of the No. 1 Business Department of Hebei Foreign.¹⁰ However, Hebei Foreign's supplemental response clearly states that Wang Kezheng is not employed by Hebei Foreign. The Department is mindful of the concerns raised by Petitioners with regard to Hebei Foreign's certifications. Accordingly, the Department reminds parties of their obligation pursuant to 19 CFR 351.303(g) to certify factual information submitted to the Department.

⁸ See Letter from Hebei Foreign, to the Department, regarding Certain Activated Carbon from the People's Republic of China; Request for Changed Circumstances Review (February 24, 2009) ("Hebei Foreign's CCR Request"); see also Initiation.

⁹ See Letter from Hebei Foreign to the Department, regarding Certain Activated Carbon from the People's Republic of China; Supplemental Response of Hebei Foreign Trade and Advertising Corp. at page 1 (July 6, 2009) (“Hebei Foreign's Supplemental Questionnaire Response”).

¹⁰ See id. at page 1.

Accordingly, because there has been no change in Hebei Foreign's operations from the period of investigation, and because this CCR was initiated based on information that was later determined to be false, and the certifications submitted by Hebei Foreign are questionable, we find that a rescission of this review is appropriate. Therefore, we are now rescinding this change circumstances review.

This notice is issued and published in accordance with sections 751(b)(1) and 777(i)(1) of the Tariff Act of 1930, as amended, and 19 C.F.R. 351.216.

Dated: September 18, 2009.
John M. Andersen,
Acting Deputy Assistant Secretary for Antidumping and Countervailing Duty Operations.

[FR Doc. E9-23116 Filed 9-23-09; 8:45 am]

BILLING CODE 3510-DS-S